DEPARTMENT OF THE INTERIOR

Bureau of Land Management

[OR-027-1020-PN-020H; G-04-0117]

Notice To Cancel Date of a Public Meeting, Steens Mountain Advisory Council

AGENCY: Bureau of Land Management (BLM), Interior.

ACTION: Cancel one day of public meeting for the Steens Mountain Advisory Council.

SUMMARY: The previously scheduled April 12 and 13, 2004, Steens Mountain Advisory Council Meeting (SMAC) to be held at the Bureau of Land Management (BLM), Burns District Office, 28910 Highway 20 West, Hines, Oregon 97738, has been changed to occur only on April 13, 2004. The April 12, 2004 public meeting date has been cancelled. The original Federal Register notice announcing the meeting was published Tuesday, December 2, 2003, page number 67468.

FOR FURTHER INFORMATION CONTACT: Additional information concerning the SMAC may be obtained from Rhonda Karges, Management Support Specialist, Burns District Office, 28910 Highway 20 West, Hines, Oregon, 97738, (541) 573-4400 or Rhonda_Karges@or.blm.gov or from the following Web site: http://www.or.blm.gov/Steens.

Dated: March 5, 2004.
Karla Bird,
Andrews Resource Area Field Manager.

[FR Doc. 04-5446 Filed 3-10-04; 8:45 am]

BILLING CODE 4310-AG-P